FEDERAL TRADE COMMISSION

Agency Information Collection Activities; Submission to the Office of Management and Budget for Review and Approval; Comment Request

AGENCY: Federal Trade Commission.

ACTION: Notice and request for comment.

SUMMARY: The Federal Trade Commission (“FTC” or “Commission”) requests that the Office of Management and Budget (“OMB”) extend for an additional three years the current Paperwork Reduction Act (“PRA”) clearance for information collection requirements of its Affiliate Marketing Rule, which applies to certain motor vehicle dealers, and its shared enforcement with the Consumer Financial Protection Bureau (“CFPB”) of the provisions (subpart C) of the CFPB's Regulation V regarding other entities (“CFPB Rule”). The existing clearance expires on January 31, 2020.

DATES: Comments must be submitted on or before February 6, 2020.

ADDRESSES: Comments in response to this notice should be submitted to the OMB Desk Officer for the Federal Trade Commission within 30 days of this notice. You may submit comments using any of the following methods:

Electronic: Write “Affiliate Marketing Disclosure Rule, PRA Comment: FTC File No. P0105411,” on your comment and file your comment online at https://www.regulations.gov, by following the instructions on the web-based form.

Email: MBX.OMB.OIRA.Submission@OMB.eop.gov.

Mail: Office of Information and Regulatory Affairs, Office of Management and Budget, Attention: Desk Officer for the Federal Trade Commission, New Executive Office Building, Docket Library, Room 10102, 725 17th Street NW, Washington, DC 20503.

FOR FURTHER INFORMATION CONTACT: Katherine McCarron, Attorney, Division of Privacy and Identity Protection, Bureau of Consumer Protection, Federal Trade Commission, 600 Pennsylvania Avenue NW, Room CC-8232, Washington, DC 20580, (202) 326-2333.

SUPPLEMENTARY INFORMATION:

Pursuant to the Paperwork Reduction Act of 1995 (44 U.S.C. 3501 et seq.), the FTC has submitted to the Office of Management and Budget (“OMB”) this request for extension of the previously approved collection of information discussed below.

Title: Affiliate Marketing Rule (16 CFR 680).

OMB Control Number: 3084-0131.

Type of Review: Extension of currently approved collection.

Estimated Annual Burden:

The total estimated burden is 9,170 hours and $367,588 in associated labor costs. Commission staff estimates that the capital and non-labor costs associated with the Affiliate Marketing Rule's disclosure requirements are de minimis, because covered entities can consolidate affiliate marketing notices with other notices they already provide to their customers such as notices issued pursuant to the Commission's Gramm-Leach-Bliley Act Financial Privacy Rule (16 CFR 313).¹ For more details about the Rule requirements, the background behind these information collection provisions, and the basis for these calculations, see 84 FR 51163 (Sept. 27, 2019).

¹ We note, however, that some financial institutions may qualify for an exception and would not be required to send annual Gramm-Leach-Bliley privacy notices. See Fixing America's Surface Transportation Act (“FAST Act”), Public Law 114-94, 129 Stat. 1312, Section 75001 (Dec. 4, 2015).

Request for Comment:

On September 27, 2019, the Commission sought comment on the information collection requirements associated with the Affiliate Marketing Rule and the Commission's shared enforcement with the CFPB of the affiliate marketing provisions of Regulation V subpart C (12 CFR 1022.21). 84 FR 51163 (Sept. 27, 2019). No relevant comments were received. Pursuant to the OMB regulations, 5 CFR part 1320, that implement the PRA, 44 U.S.C. 3501 et seq., the FTC is providing this second opportunity for public comment while seeking OMB approval to renew the pre-existing clearance for those information collection requirements.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16 CFR 4.10(a)(2). In particular, do not include competitively sensitive information such as costs, sales statistics, inventories, formulas, patterns devices, manufacturing processes, or customer names.

Heather Hippsley,
Deputy General Counsel.

[FR Doc. 2020-00008 Filed 1-6-20; 8:45 am]

BILLING CODE 6750-01-P